DEPARTMENT OF ENERGY

Federal Energy Regulatory Commission

[Docket No. RP96-367-011]

Northwest Pipeline Corporation; Notice of Compliance Filing

June 5, 2000.

Take notice that on May 31, 2000, Northwest Pipeline Corporation (Northwest) tendered for filing as part of its FERC Gas Tariff the following tariff sheets to be effective July 1, 2000:

Third Revised Volume No. 1

Eighteenth Revised Sheet No. 5

Thirteenth Revised Sheet No. 5-A

Original Volume No. 2

Twenty-Fifth Revised Sheet No. 2

Twenty-Eighth Revised Sheet No. 2.1

Twenty-Seventh Revised Sheet No. 2-A

Northwest states that the purpose of this filing is to move into effect the Period Two Rates contained in Appendix A of Northwest's Stipulation and Agreement of Settlement filed on July 22, 1997 in Docket No. RP96-367 and approved by the Commission on November 25, 1997.

Northwest states that a copy of this filing has been served upon its customers and interested state regulatory commissions.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14556 Filed 6-8-00; 8:45 am]

BILLING CODE 6717-01-M